ENVIRONMENTAL PROTECTION AGENCY

[FRL-6959-2]

Proposed Settlement Agreement

AGENCY: Environmental Protection Agency (EPA).

ACTION: Notice of proposed settlement agreement; request for public comment.

SUMMARY: In accordance with section 113(g) of the Clean Air Act, as amended, 42 U.S.C. 7413(g), notice is hereby given of a proposed settlement agreement in Eramet Marietta, Inc., v. EPA, No. 99-1290 (D.C. Cir.).

This case concerns a challenge to the rule entitled National Emission Standards for Hazardous Air Pollutants for Ferroalloys Production, published in the Federal Register at 64 FR 27450 on May 20, 1999. The proposed settlement provides for EPA to propose revisions to the Ferroalloys rule that would amend the emission standards applicable to ferromanganese and silicomanganese production in open submerged arc furnaces and extend the compliance deadline by six months.

For a period of thirty (30) days following the date of publication of this notice, EPA will receive written comments relating to the settlement from persons who were not named as parties to the litigation in question. EPA or the Department of Justice may withhold or withdraw consent to the proposed settlement if the comments disclose facts or circumstances that indicate that such consent is inappropriate, improper, inadequate, or inconsistent with the requirements of the Act. Copies of the settlement are available from Phyllis Cochran, (202) 564-5566. Written comments should be sent to Jon Devine at Air and Radiation Division (2344A), Office of General Counsel, U.S. Environmental Protection Agency, 1200 Pennsylvania Avenue, NW., Washington, DC 20460, and must be submitted on or before April 27, 2001.

Anna L. Wolgast,
Acting General Counsel.

[FR Doc. 01-7635 Filed 3-27-01; 8:45 am]

BILLING CODE 6560-50-P